NUCLEAR REGULATORY COMMISSION

[NRC-2011-0025]

Administrative Guide for Verifying Compliance With Packaging Requirements for Shipment and Receipt of Radioactive Material

AGENCY: Nuclear Regulatory Commission.

ACTION: Regulatory guide; issuance.

SUMMARY: The U.S. Nuclear Regulatory Commission (NRC or Commission) is issuing a revision to Regulatory Guide 7.7, “Administrative Guide for Verifying Compliance with Packaging Requirements for Shipment and Receipt of Radioactive Material.” This regulatory guide describes an approach the staff of the NRC considers acceptable for meeting the administrative requirements associated with the shipment and receipt of radioactive materials.

ADDRESSES: Please refer to Docket ID NRC-2011-0025 when contacting the NRC about the availability of information regarding this document. You may access information related to this document, which the NRC possesses and is publicly available, using the following methods:

• Federal Rulemaking Web Site: Go to http://www.regulations.gov and search for Docket ID NRC-2011-0025. Address questions about NRC dockets to Carol Gallagher, telephone: (301) 492-3668; email Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1 (800) 397-4209 or 1 (301)-415-4737, or by emailing to PDR.Resource@nrc.gov. The ADAMS accession number for each document referenced in this notice (if that document is available in ADAMS) is provided the first time that a document is referenced. Revision 1 of Regulatory Guide 7.7 is available in ADAMS under Accession No. ML112160407. The regulatory analysis may be found in ADAMS under Accession No. ML112160410. Public comments and the NRC staff response to them may be found in ADAMS under Accession No. ML112160411.

Regulatory guides are not copyrighted, and NRC approval is not required to reproduce them.

• NRC's PDR: You may examine and purchase copies of public documents at the NRC's PDR, Room O1-F21, One White Flint North, 11555 Rockville Pike, Rockville, MD 20852.

FOR FURTHER INFORMATION CONTACT: Bernard White, Office of Nuclear Material Safety and Safeguards, Division of Spent Fuel Storage and Transportation, U.S. Nuclear Regulatory Commission, Washington, DC 20555-0001, telephone: (301) 492-3303 or email: Bernard.White@nrc.gov.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

This revision to Regulatory Guide 7.7 provides licensees and applicants with a method the NRC considers acceptable for meeting the administrative requirements for transporting licensed material under 10 CFR part 71, “Packaging and Transportation of Radioactive Material” either in a Type B or a Type AF package and receipt, and for opening of the package under 10 CFR Part 20, “Standards for Protection Against Radiation.” The NRC's administrative requirements for the shipment, receipt, and opening of a Type B package appear in Subpart J, “Precautionary Procedures” of 10 CFR part 20 and subpart G, “Operating Controls and Procedures,” of 10 CFR part 71.

The staff developed and published this guidance to provide licensees with an acceptable method to satisfy the administrative requirements in 10 CFR part 20 and part 71 for transferring, shipping, and receiving radioactive material.

II. Further Information

Revision 1 of Regulatory Guide 7.7 was issued with a temporary identification as Draft Regulatory Guide, DG-7007. Draft Regulatory Guide, DG-7007, was published in the Federal Register on January 28, 2011 (76 FR 5215) for a 60 days public comment period. The public comment period closed on March 30, 2011. The NRC staff's responses to the public comments on DG-7007 are available under ADAMS Accession Number ML112160411.

Dated at Rockville, Maryland, this 19th day of March, 2011.
For the Nuclear Regulatory Commission.
Richard Jervey,
Acting Chief, Regulatory Guide Development Branch, Division of Engineering, Office of Nuclear Regulatory Research.

[FR Doc. 2012-7438 Filed 3-27-12; 8:45 am]

BILLING CODE 7590-01-P